DEPARTMENT OF THE INTERIOR

Minerals Management Service

Texas Section 8(g) Natural Gas Royalty-In-Kind Pilot Report—Evaluation of the 19-Month Period (June 1999-December 2000)

AGENCY: Minerals Management Service, Interior.

ACTION: Notice of Availability of Natural Gas Royalty-In-Kind Pilot Report for Review and Comment.

SUMMARY: The Minerals Management Service (MMS) will post on MMS's Internet Home Page the Texas General Land Office/Minerals Management Service 8(g) Gas Royalty-In-Kind (RIK) Pilot—A Report. Comments will be accepted electronically or in hard copy.

DATES: MMS will consider all comments we receive by June 14, 2002. The Report will be posted on the MMS's Internet home page on April 20, 2002.

ADDRESSES: The Report will be posted on Minerals Revenue Management's home page at http://www.mrm.mms.gov under “What's New.” The Report may also be obtained by contacting Mr. Martin C. Grieshaber at the address in the FURTHER INFORMATION section.

FOR FURTHER INFORMATION CONTACT: For additional information concerning the Report, contact Mr. Martin C. Grieshaber, Minerals Management Service, MS 9200, P.O. Box 25165, Denver, Co 80225-0165; telephone number (303) 275-7118; fax (303) 275-7124; e-mail Martin.Grieshaber@mms.gov.

SUPPLEMENTARY INFORMATION: Under the RIK pilot undertaken jointly by the State of Texas General Land Office and the Department of the Interior's Minerals Management Service, gas was sold beginning in June 1999. The pilot included thirteen of the forty leases offshore Texas subject to section 8(g) of the OCS Lands Act. These leases were split into two packages “ the “Blessing” and the “MOPS” “ for purposes of gas sales. The Report summarizes and analyzes the results of the sales for the first 19 months “ June 1999 through December 2000.

MMS and the State of Texas initiated the 8(g) gas pilot as part of the continuing effort to follow through on the recommendations of the Royalty-In-Kind Feasibility Study published by MMS in 1997. Many of the lessons learned during the 8(g) pilot period and subsequent sales have been carried over to the expansion of the gas RIK pilots to the entire Gulf of Mexico (GOM). MMS's intent in making the Report available for comment prior to finalization is to continue an iterative improvement process by receiving comments from individuals and groups with expertise in the GOM gas market.

The internet posting and availability of the Report in hard copy are being announced by a press release as well as in this Federal Register notice.

Dated: March 29, 2002.
Walter D. Cruickshank,
Associate Director for Policy and Management Improvement.

[FR Doc. 02-10544 Filed 4-29-02; 8:45 am]

BILLING CODE 4310-MR-P